INTERNATIONAL TRADE COMMISSION

[Investigation No. 337-TA-1176]

Certain Semiconductor Devices, Products Containing the Same, and Components Thereof (I); Institution of Investigation

AGENCY: U.S. International Trade Commission.

ACTION: Notice.

SUMMARY: Notice is hereby given that a complaint was filed with the U.S. International Trade Commission on August 26, 2019, under section 337 of the Tariff Act of 1930, as amended, on behalf of Globalfoundries U.S. Inc. of Santa Clara, California. A supplement to the complaint was filed on September 13, 2019. The complaint, as supplemented, alleges violations of section 337 based upon the importation into the United States, the sale for importation, and the sale within the United States after importation of certain semiconductor devices, products containing the same, and components thereof by reason of infringement of certain claims of U.S. Patent No. 8,912,603 (“the '603 patent”); U.S. Patent No. 7,750,418 (“the '418 patent”); and U.S. Patent No. 8,936,986 (“the '986 patent”). The complaint further alleges that an industry in the United States exists as required by the applicable Federal Statute. The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION: The authority for institution of this investigation is contained in section 337 of the Tariff Act of 1930, as amended, 19 U.S.C. 1337, and in section 210.10 of the Commission's Rules of Practice and Procedure, 19 CFR 210.10 (2019).

Scope of Investigation: Having considered the complaint, the U.S. International Trade Commission, on September 25, 2019, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-8, 10-13, and 15-19 of the '603 patent; claims 27-31 of the '418 patent; and claims 1-7, 12-13, and 15-16 of the '986 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “semiconductor devices manufactured at the 28nm, 20nm, 16nm, 12nm, and 7nm process nodes and products containing same, and components thereof, which are field programmable gate arrays (including 3D ICs), adaptive compute acceleration platforms, systems on a chip (including MPSoCs and RFSoCs), modems, televisions, tablets, smart watches, development boards, USB accelerators, test boards, and smartphones”;

(3) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(4) For the purpose of the investigation so instituted, the following are hereby named as parties upon which this notice of investigation shall be served:

(a) The complainant is:

Globalfoundries U.S. Inc., 2600 Great America Way, Santa Clara, CA 95054

(b) The respondents are the following entities alleged to be in violation of section 337, and are the parties upon which the complaint is to be served:

Taiwan Semiconductor Manufacturing Co., Ltd., No. 8, Li-Hsin Rd. VI, Hsinchu 300, Taiwan

TSMC North America, 2851 Junction Avenue, San Jose, California 95134

MediaTek lnc., No. 1 Dusing 1st Rd., Hsinchu Science Park, Hsinchu 20078, Taiwan

MediaTek USA Inc., 2840 Junction Avenue, San Jose, California 95134

Qualcomm Inc., 5775 Morehouse Dr., San Diego, California 92121-1714

Xilinx, Inc., 2100 Logic Dr., San Jose, California 95124

Avnet, Inc., 2211 South 4 7th Street, Phoenix, Arizona 85034

Digi-Key Corporation, 701 Brooks Avenue South, Thief River Falls, Minnesota 56701

Mouser Electronics, Inc., 1000 North Main Street, Mansfield, Texas 76063

TCL Corporation, Floor 22, TCL Technology Building, 17 Huifeng 3rd Rd., Zhongkai Hi-tech Development District, Huizhou, Guangdong 516006, P.R. China

TCL Multimedia Technology Holdings, TCL Multimedia Building, TCL International E City, No. 1001, Zhongshanyuan Road, Nanshan District, Shenzhen, Guangdong Province 518052, P.R. China

Hisense Co. Ltd., Hisense Tower, No. 17 Donghai West Road, South District, Qingdao 266071, P.R. China

Hisense USA Corp., 7310 McGinnis Ferry Road, Suwanee, Georgia 20024

Hisense Import & Export Co. Ltd., Hisense Tower, No. 17 Donghai West Road, South District, Qingdao 266071, P.R. China

Hisense Electric Co., Ltd., 218 Qianwangang Road, Economic Technology Dvpt Zone, Qingdao 266555, P.R. China

Hisense International Co., Ltd., Hisense Tower, No. 17, Donghaixi Road, Qingdao 266071, P.R. China

Hisense Group Co., Ltd., Hisense Tower, No. 17, Donghaixi Road, Qingdao 266071, P.R. China

Qingdao Hisense Communication Co., Ltd., No. 18, Tuanjie Road, Huandao Information, Industry Park, Qingdao, Shandong 260071, P.R. China

Google LLC, 1600 Amphitheatre Parkway, Mountain View, California 94043

Motorola Mobility LLC, 222 West Merchandise Mart Plaza, Chicago, Illinois 60654

BLU Products, 10814 NW 33rd Street, Doral, Florida 33172

OnePlus Technology Co., Ltd., 18F, Block C, Shenye Tairan Building, Tairan Eight Road, Chegongmiao, Futian District, Shenzhen, Guangdong 518048, China

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 26, 2019.
Lisa Barton,
Secretary to the Commission.

[FR Doc. 2019-21300 Filed 9-30-19; 8:45 am]

BILLING CODE 7020-02-P